DEPARTMENT OF TRANSPORTATION

Federal Aviation Administration

14 CFR Part 39

[Docket No. FAA-2013-0692; Directorate Identifier 2012-NM-024-AD]

RIN 2120-AA64

Airworthiness Directives; Airbus Airplanes

AGENCY: Federal Aviation Administration (FAA), DOT.

ACTION: Notice of proposed rulemaking (NPRM).

SUMMARY: We propose to supersede airworthiness directive (AD) 2011-14-06 that applies to all Airbus Model A318, A319, A320, and A321 series airplanes. That AD currently requires revising the maintenance program. Since we issued that AD, we have determined that more restrictive limitations are necessary. This proposed AD would require revising the maintenance program to incorporate new limitations. We are proposing this AD to prevent fatigue cracking, accidental damage, or corrosion in principal structural elements, and possible failure of certain life limited parts, which could result in reduced structural integrity of the airplane.

DATES: We must receive comments on this proposed AD by September 27, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0692; Directorate Identifier 2012-NM-024-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 24, 2011, we issued AD 2011-14-06, Amendment 39-16741 (76 FR 42024, July 18, 2011). That AD required actions intended to address an unsafe condition on the products listed above.

Since we issued AD 2011-14-06, Amendment 39-16741 (76 FR 42024, July 18, 2011), we have determined that more restrictive limitations are necessary. The European Aviation Safety Agency (EASA), which is the Technical Agent for the Member States of the European Community, has issued EASA Airworthiness Directive 2012-0008, dated January 16, 2012 (referred to after this as “the MCAI”), to correct an unsafe condition for the specified products. The MCAI states:

The airworthiness limitations for Airbus aeroplanes are currently published in Airworthiness Limitations Section (ALS) documents. The airworthiness limitations applicable to the Safe Life Airworthiness Limitation Items (SL ALI) are specified in Airbus A318/A319/A320/A321 ALS Part 1, which is approved by the European Aviation Safety Agency (EASA).

EASA AD 2006-0162 [which corresponds to FAA AD 2007-20-05, Amendment 39-15215 (72 FR 56262, October 3, 2007) which was superseded by FAA AD 2011-14-06, Amendment 39-16741 (76 FR 42024, July 18, 2011)] was issued to require the implementation of the instructions and airworthiness limitations as specified in Airbus A318/A319/A320/A321 ALS Part 1 original issue. Failure to comply with the instructions of ALS Part 1 could result in an unsafe condition.

This [EASA] AD retains the requirements of EASA AD 2006-0162, which is superseded, extends the applicability by adding the Models A318-121, A318-122, A320-215 and A320-216, and requires the implementation of the instructions and airworthiness limitations as specified in Airbus A318/A319/A320/A321 ALS part 1 revision 02, approved on 13 May 2011.

The unsafe condition is fatigue cracking, accidental damage, or corrosion in principal structural elements and possible failure of certain life limited parts, which could result in reduced structural integrity of the airplane. The required actions also include revising the maintenance program to include Airbus A318/A319/A320/A321 ALS Part 4—Ageing Systems Maintenance, dated January 8, 2008. You may obtain further information by examining the MCAI in the AD docket.

Relevant Service Information

Airbus has issued A318/A319/A320/A321 ALS Part 1—Safe Life Airworthiness Limitation Items, Revision 02, dated May 13, 2011; and A318/A319/A320/A321 ALS Part 4—Ageing Systems Maintenance, dated January 8, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD requires revisions to certain operator maintenance documents to include new actions. Compliance with these actions is required by section 91.403(c) of the Federal Aviation Regulations (14 CFR 91.403(c)). For airplanes that have been previously modified, altered, or repaired in the areas addressed by these inspections, an operator might not be able to accomplish the actions described in the revisions. In this situation, to comply with 14 CFR 91.403(c), the operator must request approval of an alternative method of compliance (AMOC) in accordance with the provisions of paragraph (o) of this proposed AD. The request should include a description of changes to the required inspections that will ensure the continued damage tolerance of the affected structure and the continued operational safety of the airplane.

Differences Between This AD and the MCAI or Service Information

Although the MCAI requires revising the maintenance program to include the incorporation of Airbus A318/A319/A320/A321 ALS Part 1—Safe Life Airworthiness Limitation Items, Revision 02, dated May 13, 2011, this AD also requires revising the maintenance program to include the incorporation of Airbus A318/A319/A320/A321 ALS Part 4—Ageing Systems Maintenance, dated January 8, 2008. This difference has been coordinated with EASA.

Costs of Compliance

Based on the service information, we estimate that this proposed AD would affect about 851 products of U.S. registry.

The actions that are required by AD 2011-14-06, Amendment 39-16741 (76 FR 42024, July 18, 2011), and retained in this proposed AD take about 1 work-hour per product, at an average labor rate of $85 per work hour. Based on these figures, the estimated cost of the currently required actions is $85 per product.

We estimate that it would take about 1 work-hour per product to comply with the new basic requirements of this proposed AD. The average labor rate is $85 per work-hour. Based on these figures, we estimate the cost of the proposed AD on U.S. operators to be $72,335, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-14-06, Amendment 39-16741 (76 FR 42024, July 18, 2011), and adding the following new AD:

Airbus: Docket No. FAA-2013-0692; Directorate Identifier 2012-NM-024-AD.

(a) Comments Due Date

We must receive comments by September 27, 2013.

(b) Affected ADs

This AD supersedes AD 2011-14-06, Amendment 39-16741 (76 FR 42024, July 18, 2011).

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category.

(d) Subject

Air Transport Association (ATA) of America Code 05, Periodic inspections.

(e) Reason

This AD was prompted by a determination that more restrictive limitations are necessary. We are issuing this AD to prevent fatigue cracking, accidental damage, or corrosion in principal structural elements, and possible failure of certain life limited parts, which could result in reduced structural integrity of the airplane.

(f) Compliance

You are responsible for having the actions required by this AD performed within the compliance times specified, unless the actions have already been done.

(g) Retained Revision of Airworthiness Limitations Section (ALS) To Incorporate Safe Life ALIs

This paragraph restates the requirements of paragraph (g) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: Within 3 months after November 7, 2007 (the effective date of AD 2007-20-05, Amendment 39-15215 (72 FR 56262, October 3, 2007)), revise the ALS of the Instructions for Continued Airworthiness to incorporate Sub-part 1-2, “Life Limits,” and Sub-part 1-3, “Demonstrated Fatigue Lives,” of Airbus A318/A319/A320/A321 ALS Part 1—Safe Life Airworthiness Limitation Items, dated February 28, 2006. Accomplish the actions in Sub-part 1-2, “Life Limits,” and Sub-part 1-3, “Demonstrated Fatigue Lives,” of Airbus A318/A319/A320/A321 ALS Part 1—Safe Life Airworthiness Limitation Items, dated February 28, 2006, at the times specified in Sub-part 1-2, “Life Limits,” and Sub-part 1-3, “Demonstrated Fatigue Lives,” of Airbus A318/A319/A320/A321 ALS Part 1—Safe Life Airworthiness Limitation Items, dated February 28, 2006, except as provided by paragraph (h) of this AD. Doing the actions required by paragraph (m) of this AD terminates the requirements of this paragraph.

(h) Retained Grace Period for New or More Restrictive Actions

This paragraph restates certain provisions of paragraph (i) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: For any new or more restrictive life limit introduced with Sub-part 1-2, “Life Limits,” and Sub-part 1-3, “Demonstrated Fatigue Lives,” of Airbus A318/A319/A320/A321 ALS Part 1—Safe Life Airworthiness Limitation Items, dated February 28, 2006, replace the part at the time specified in Sub-part 1-2, “Life Limits,” and Sub-part 1-3, “Demonstrated Fatigue Lives,” of Airbus A318/A319/A320/A321 ALS Part 1—Safe Life Airworthiness Limitation Items, dated February 28, 2006, or within 6 months after November 7, 2007 (the effective date of AD 2007-20-05, Amendment 39-15215 (72 FR 56262, October 3, 2007)), whichever is later.

(i) Retained Revision of ALS To Incorporate Damage-Tolerant ALIs With Revised Compliance Times

This paragraph restates the requirements of paragraph (j) of AD 2011-14-06, Amendment 39-16741 (76 FR 42024, July 18, 2011), with revised compliance times. Within 9 months after August 22, 2011 (the effective date of AD 2011-14-06): Revise the maintenance program by incorporating all maintenance requirements and associated airworthiness limitations specified in the Airbus A318/A319/A320/A321 Airworthiness Limitation Items, Document AI/SE-M4/95A.0252/96, Issue 10, dated October 2009; or Issue 11, dated September 2010. Comply with all applicable maintenance requirements and associated airworthiness limitations included in Airbus A318/A319/A320/A321 Airworthiness Limitation Items, Document AI/SE-M4/95A.0252/96, Issue 10, dated October 2009; or Issue 11, dated September 2010; except as provided by paragraph (j) of this AD. Doing the actions required by paragraph (m) of this AD terminates the requirements of this paragraph.

(j) Retained Special Compliance Times for Certain Tasks

This paragraph restates the requirements of paragraph (k) of AD 2011-14-06, Amendment 39-16741 (76 FR 42024, July 18, 2011), with changes to table 1 to paragraph (j) of this AD. For new and more restrictive tasks introduced with Airbus A318/A319/A320/A321 Airworthiness Limitation Items, Document AI/SE-M4/95A.0252/96, Issue 10, dated October 2009; or Issue 11, dated September 2010; as specified in table 1 to paragraph (j) of this AD: The initial compliance time for doing the tasks is specified in table 1 to paragraph (j) of this AD.

Table 1 to Paragraph (j) of This AD—Compliance Times for Tasks
Task | Applicability (as specified in the applicability column of the task) | Compliance time, whichever occurs later
545102-01-6 | Group 19-1A CFM, Group 19-1B CFM, and Model A320-200 airplanes with CFM Industrial (CFM)/International Aero Engine (IAE) engines | The threshold as defined in Airbus A318/A319/A320/A321 Airworthiness Limitation Items, Document AI/SE-M4/95A.0252/96, Issue 10, dated October 2009; or Issue 11, dated September 2010 | Within 2,000 flight cycles or 5,500 flight hours, after August 22, 2011 (the effective date of AD 2011-14-06, Amendment 39-16741 (76 FR 42024, July 18, 2011)), whichever occurs first.
545102-01-7 | Model A320-100 series airplanes | The threshold as defined in Airbus A318/A319/A320/A321 Airworthiness Limitation Items, Document AI/SE-M4/95A.0252/96, Issue 10, dated October 2009; or Issue 11, dated September 2010 | Within 2,000 flight cycles or 2,000 flight hours, after August 22, 2011 (the effective date of AD 2011-14-06, Amendment 39-16741 (76 FR 42024, July 18, 2011)), whichever occurs first.
572050-01-1 or alternative task 572050-02-1 | Group 19-1A and Group 19-1B airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-4 or alternative task 572050-02-4 | Model A320-200 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-5 or alternative task 572050-02-5 | Group 21-1A airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-7 or alternative task 572050-02-7 | Model A320-100 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
534132-01-1 | Model A320 PRE 30748 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318 (except (A318-121 and -122), Group 19-1A, Group 19-1B, and Model A320 and A321 series airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318-121 and -122 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)).
Note 1 to table 1 to paragraph (j) of this AD: ALI Task 572050 refers to the outer wing dry bay and is comprised of extracts from three ALI Tasks 572004, 572020, and 572053. The threshold of ALI Task 572050 for the whole dry bay area is that of the lowest threshold of the source ALI tasks, i.e., that of ALI Task 572053.

(k) Retained Limitation: No Alternative Life Limits, Inspections, or Inspection Intervals After Accomplishment of the Actions Specified in Paragraph (g) of This AD

This paragraph restates the requirements of paragraph (l) of AD 2011-14-06, Amendment 39-16741 (76 FR 42024, July 18, 2011). After the actions specified in paragraph (g) of this AD have been accomplished, no alternative life limits, inspections, or inspection intervals may be used, except as provided by paragraph (h) of this AD, and except as required by paragraph (m) of this AD.

(l) Retained Limitation: No Alternative Life Limits, Inspections, or Inspection Intervals After Accomplishment of the Actions Specified in Paragraph (j) of This AD

This paragraph restates the requirements of paragraph (m) of AD 2011-14-06, Amendment 39-16741 (76 FR 42024, July 18, 2011). After the actions specified in paragraph (i) of this AD have been accomplished, no alternative life limits, inspections, or inspection intervals may be used, except as required by paragraph (m) of this AD.

(m) New Maintenance Program Revision

Within 30 days after the effective date of this AD, revise the maintenance program to incorporate Airbus A318/A319/A320/A321 ALS Part 1—Safe Life Airworthiness Limitation Items, Revision 02, dated May 13, 2011; and Airbus A318/A319/A320/A321 ALS Part 4—Ageing Systems Maintenance, dated January 8, 2008. The initial compliance time for the accomplishing the actions is at the applicable time specified in Airbus A318/A319/A320/A321 ALS Part 1—Safe Life Airworthiness Limitation Items, Revision 02, dated May 13, 2011, and Airbus A318/A319/A320/A321 ALS Part 4—Ageing Systems Maintenance, dated January 8, 2008; or within 4 months after the effective date of this AD; whichever occurs later.

(n) New Limitation: No Alternative Actions or Intervals

After accomplishing the revision required by paragraph (m) of this AD, no alternative actions (e.g., inspections) or intervals, may be used unless the actions or intervals are approved as an alternative method of compliance (AMOC) in accordance with the procedures specified in paragraph (o) of this AD.

(o) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2011-14-06, Amendment 39-16741 (76 FR 42024, July 18, 2011), are approved as AMOCs for the corresponding actions specified in this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(p) Related Information

(1) Refer to Mandatory Continuing Airworthiness Information European Aviation Safety Agency (EASA) Airworthiness Directive 2012-0008, dated January 16, 2012, and the service information specified in paragraphs (p)(1)(i) through (p)(1)(viii) of this AD, for related information.

(i) Airbus A318/A319/A320/A321 ALS Part 1—Safe Life Airworthiness Limitation Items, Revision 02, dated May 13, 2011.

(ii) Airbus A318/A319/A320/A321 ALS Part 1—Safe Life Airworthiness Limitation Items, dated February 28, 2006.

(iii) Airbus A318/A319/A320/A321 ALS Part 4—Ageing Systems Maintenance, dated January 8, 2008.

(iv) Airbus A318/A319/A320/A321 Airworthiness Limitation Items, Document AI/SE-M4/95A.0252/96, Issue 7, dated December 2005.

(v) Airbus A318/A319/A320/A321 Airworthiness Limitation Items, Document AI/SE-M4/95A.0252/96, Issue 08, dated March 2006.

(vi) Airbus A318/A319/A320/A321 Airworthiness Limitation Items, Document AI/SE-M4/95A.0252/96, Issue 09, dated November 2006.

(vii) Airbus A318/A319/A320/A321 Airworthiness Limitation Items, Document AI/SE-M4/95A.0252/96, Issue 10, dated October 2009.

(viii) Airbus A318/A319/A320/A321 Airworthiness Limitation Items, Document AI/SE-M4/95A.0252/96, Issue 11, dated September 2010.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on August 2, 2013.
Jeffrey E. Duven,
Acting Manager, Transport Airplane Directorate, Aircraft Certification Service.

[FR Doc. 2013-19528 Filed 8-12-13; 8:45 am]

BILLING CODE 4910-13-P